DEPARTMENT OF AGRICULTURE

Office of the Secretary

Abolishment of Privacy Act System of Records

AGENCY: Office of the Secretary, USDA.

ACTION: Notice of abolishment of records systems.

SUMMARY: In accordance with the Privacy Act of 1974, the Department of Agriculture (USDA) is abolishing an existing Forest Service Privacy Act system of records. A review of USDA/FS-9 Employee Assistance Program CONCERN has concluded that the system is no longer in effect and is therefore being abolished.

DATES: This notice is effective on December 29, 2011.

ADDRESSES: For additional information contact Forest Service Privacy Act Officer, USDA Forest Service, 1400 Independence Avenue SW., Mail Stop 1143, Washington, DC 20250-1143, wo_foia@fs.fed.us, facsimile to (202) 260-3245. Individuals who use telecommunication devices for the deaf (TDD) may call the Federal Relay Service (FRS) at 1-(800) 877-8339 between 8 a.m. and 8 p.m., Eastern Standard time, Monday through Friday.

FOR FURTHER INFORMATION CONTACT: Wellness Program Manager, USDA, Forest Service, Office of Safety and Occupational and Health, 1400 Independence Avenue SW., Mailstop 1152, Washington, DC 20250-1152, (703) 605-0884.

SUPPLEMENTARY INFORMATION: Pursuant to the Privacy Act of 1974 (5 U.S.C. 552a), as amended, and as part of the Forest Service's ongoing effort to review and update system of records notices, we are abolishing one record system: Employee Assistance Program CONCERN (40 FR 38939 August 27, 1975). This notice identifies a Forest Service system of records that is no longer in use. There are no records in this system of records. The records formerly included in this system of records have destroyed according to the Federal Records Disposal Act of 1943 (44 U.S.C. 366-380) and the Federal Records Act of 1950, and as designated in the Forest Service Records Management Handbook (FSH) 6209.11. This system is abolished and removed from the inventory of the USDA System of Records.

Dated: December 5, 2011.
Thomas J. Vilsack,
Secretary.

[FR Doc. 2011-33457 Filed 12-28-11; 8:45 am]

BILLING CODE 3410-11-P